DEPARTMENT OF COMMERCE

National Institute of Standards and Technology

Computer System Security and Privacy Advisory Board; Request for Nominations

AGENCY: National institute of standards and technology, Commerce.

ACTION: Request for nominations of members to serve on the Computer System Security and Privacy Advisory Board.

SUMMARY: NIST invites and requests nominations of individuals for appointment to the Computer System Security and Privacy Advisory Board (CSSPAB). The terms of some of the members will soon expire. NIST will consider nominations received in response to this notice for appointment to the Board, in addition to nominations already received.

DATES: Please submit nominations on or before August 15, 2001.

ADDRESSES: Please submit nominations to Dr. Fran Nielsen, CSSPAB Secretary, NIST, 100 Bureau Drive, M.S. 8930, Gaithersburg, MD 20899-8930. Nominations may also be submitted via fax to 301-948-2733: CSSPAB Nominations.

Additional information regarding the Board, including its charter and current membership list, may be found on its electronic home page at: http://csrc.nist.gov/csspab/.

FOR FURTHER INFORMATION CONTACT: Dr. Fran Nielsen, CSSPAB Secretary and Designated Federal Official, NIST, 100 Bureau Drive, M.S. 8930, Gaithersburg, MD 20899-8930; telephone 301-975-3669; telefax: 301-926-2733; or via email at fran.nielsen@nist.gov.

SUPPLEMENTARY INFORMATION:

I. CSSPAB Information

Objectives and Duties

The CSSPAB was chartered by the Department of Commerce pursuant to the Computer Security Act of 1987 (Pub. L. 100-235). The objectives and duties of the CSSPAB are:

1. The Board shall identify emerging managerial, technical, administrative, and physical safeguard issues relative to computer systems security and privacy.

2. The Board shall advise the National Institute of Standards and Technology (NIST) and the Secretary of Commerce on security and privacy issues pertaining to Federal computer systems.

3. To report its findings to the Secretary of Commerce, the Director of the Office of Management and Budget, the Director of the National Security Agency, and the appropriate committees of the Congress.

4. The Board will function solely as an advisory body, in accordance with the provisions of the Federal Advisory Committee Act.

Membership

The CSSPAB is comprised of twelve members, in addition to the Chairperson. The membership of the Board includes:

(1) Four members from outside the Federal Government eminent in the computer or telecommunications industry, at least one of whom is representative of small or medium sized companies in such industries;

(2) Four members from outside the Federal Government who are eminent in the fields of computer or telecommunications technology, or related disciplines, but who are not employed by or representative of a producer of computer or telecommunications equipment; and

(3) Four members from the Federal Government who have computer systems management experience, including experience in computer systems security and privacy, at least one of whom shall be from the National Security Agency.

Miscellaneous

Members of the CSSPAB are not paid for their service, but will, upon request, be allowed travel expenses in accordance with Subchapter I of Chapter 57 of Title 5, United States Code, while otherwise performing duties at the request of the Board Chairperson, while away from their homes or a regular place of business.

Meetings of the Board are two to three days in duration and are held quarterly. The meetings primarily take place in the Washington, DC metropolitan area, usually at the NIST headquarters in Gaithersburg, MD.

Board meetings are open to the public and members of the press usually attend. Members do not have access to classified or proprietary information in connection with their Board duties.

II. Nomination Information

Nominations are sought in all three categories described above, including a small business representative in the first category.

Nominees should have specific experience related to computer security or electronic privacy issues, particularly as they pertain to federal information technology. The category of membership for which the candidate is qualified should be specified in the nomination letter. Nominations for a particular category should come from organizations or individuals within that category. A summary of the candidate's qualifications should be included with the nomination. Also include (where applicable) current or former service on federal advisory boards and federal employment. Each nomination letter should state that the person agrees to the nomination, acknowledges the responsibilities of serving on the CSSPAB, and will actively participate in good faith in the tasks of the CSSPAB. Besides participation at meetings, it is desired that members be able to devote the equivalent of two days between meetings to developing draft issue papers, researching topics of potential interest, and so forth in furtherance of their Board duties.

Selection of CSSPAB members will not be limited to individuals who are nominated. Nominees must be U.S. citizens.

The Department of Commerce is committed to equal opportunity in the workplace and seeks a broad-based and diverse CSSPAB membership.

Dated: July 5, 2001.
Karen H. Brown,
Acting Director, NIST.

[FR Doc. 01-17296 Filed 7-10-01; 8:45 am]

BILLING CODE 3510-CN-M